NATIONAL AERONAUTICS AND SPACE ADMINISTRATION

[Notice: (10-014)]

NASA Commercial Space Committee; Meeting

AGENCY: National Aeronautics and Space Administration.

ACTION: Notice of meeting.

SUMMARY: In accordance with the Federal Advisory Committee Act, Public Law 92-463, as amended, the National Aeronautics and Space Administration announces a meeting of the Commercial Space Committee to the NASA Advisory Council.

DATES: Tuesday, February 16, 2010, 10 a.m.-5 p.m., Eastern.

ADDRESSES: NASA Headquarters, 300 E Street, SW., Room 6H45, Washington, DC 20546.

FOR FURTHER INFORMATION CONTACT: Mr. John Emond, Innovative Partnerships Program, National Aeronautics and Space Administration, Washington, DC 20546. Phone 202-358-1686, fax: 202-358-3878, john.l.emond@nasa.gov.

SUPPLEMENTARY INFORMATION: The agenda for the meeting includes an overview of the intended objectives for the Commercial Space Committee and preliminary discussions on some of the topic areas that will be explored by the Committee in future meetings. These topic areas include but are not limited to exploring opportunities to stimulate and encourage commercial space as well as the progression of commercial capability to the ISS and to Low Earth Orbit/LEO. This committee will also explore opportunities for interagency collaboration on commercial space initiatives, and fostering commercialization on the International Space Station as a National Lab. The meeting will be open to the public up to the seating capacity of the room. It is imperative that the meeting be held on this date to accommodate the scheduling priorities of the key participants. Visitors will need to show a valid picture identification such as a driver's license to enter the NASA Headquarters building (West Lobby—Visitor Control Center), and must state that they are attending the NASA Advisory Council Commercial Space Committee meeting in room 6H45, before receiving an access badge. All non-U.S citizens must fax a copy of their passport, and print or type their name, current address, citizenship, company affiliation (if applicable) to include address, telephone number, and their title, place of birth, date of birth, U.S. visa information to include type, number, and expiration date, U.S. Social Security Number (if applicable), and place and date of entry into the U.S., fax to John Emond, NASA Advisory Council Commercial Space Committee Executive Secretary, FAX: (202) 358-3878, by no later than February 9, 2010. To expedite admittance, attendees with U.S. citizenship can provide identifying information 3 working days in advance by contacting John Emond via e-mail at john.l.emond@nasa.gov or by telephone at (202) 358-1686 or fax: (202) 358-3878.

Dated: January 25, 2010.
P. Diane Rausch,
Advisory Committee Management Office, National Aeronautics and Space Administration.

[FR Doc. 2010-1814 Filed 1-28-10; 8:45 am]

BILLING CODE 7510-13-P